NATIONAL ARCHIVES AND RECORDS ADMINISTRATION

[NARA-2016-050]

Agency Information Collection Activities: Submission for OMB Review; Comment Request

AGENCY: National Archives and Records Administration (NARA).

ACTION: Notice.

SUMMARY: NARA gives public notice that it has submitted to OMB for approval the information collection described in this notice. We invite you to comment on the proposed information collection pursuant to the Paperwork Reduction Act of 1995.

DATES: OMB must receive written comments at the address below on or before October 11, 2016.

ADDRESSES: Send comments to Mr. Nicholas A. Fraser, desk officer for NARA, by mail to Office of Management and Budget; New Executive Office Building; Washington, DC 20503; fax to 202-395-5167; or by email to Nicholas_A._Fraser@omb.eop.gov.

FOR FURTHER INFORMATION CONTACT: Direct requests for additional information or copies of the proposed information collection and supporting statement to Tamee Fechhelm by phone at 301-837-1694 or by fax at 301-713-7409.

SUPPLEMENTARY INFORMATION: Pursuant to the Paperwork Reduction Act of 1995 (Pub. L. 104-13), NARA invites the public and other Federal agencies to comment on proposed information collections. We published a notice of proposed collection for this information collection on June 21, 2016 (81 FR 40353); we received no comments. We have therefore submitted the described information collection to OMB for approval.

In response to this notice, comments and suggestions should address one or more of the following points: (a) Whether the proposed information collection is necessary for NARA to properly perform its functions; (b) NARA's estimate of the burden of the proposed information collection and its accuracy; (c) ways NARA could enhance the quality, utility, and clarity of the information it collects; (d) ways NARA could minimize the burden on respondents of collecting the information, including through information technology; and (e) whether the collection affects small businesses. In this notice, NARA solicits comments concerning the following information collection:

Title: Consent to Make Inquiries and Release of Information and Records.

OMB number: 3095-0068.

Agency Form Number: NA Form 10003.

Type of Review: Regular.

Affected Public: Individuals or households, business or other for-profit, not-for-profit institutions, and Federal Government.

Estimated Number of Respondents: 400.

Estimated Time per Response: 2 minutes.

Frequency of Response: On occasion.

Estimated Total Annual Burden Hours: 13 hours.

Abstract: In order to fulfill its Government-wide statutory mission, OGIS provides varying types of assistance to its customers, which requires communicating with Government departments and agencies regarding the customer's FOIA/Privacy Act request/appeal. Under the Privacy Act, the agencies may not share peoples' personal information without either a routine use that they inform people of prior to gathering the information, or permission from the involved person. As a result, OGIS uses NA Form 10003 to collect that authorization and the identifying information necessary for the agency to identify the correct files so that OGIS may provide the requested assistance. Without the information submitted in NA Form 10003, OGIS would be unable to fulfill its mission or provide assistance to requesters. Requesters use the NA Form 10003, OGIS Consent to Make Inquiries and Release of Information and Records, to (1) request that OGIS make inquiries on their behalf and (2) authorize agencies to release records and information related to their FOIA and Privacy Act requests and appeals so that OGIS can assist in resolving the dispute or in providing information to the requester. The authority for this information collection is prescribed by 5 U.S.C. 552a(b), and as interpreted by Taylor v. Orr, No. 83-0389, 1983 U.S. Dist. LEXIS 20334, at *6 n.6 (D.D.C. Dec. 5, 1983.

Swarnali Haldar,
Executive for Information Services/CIO.

[FR Doc. 2016-21691 Filed 9-8-16; 8:45 am]

BILLING CODE 7515-01-P